COMMITTEE FOR THE IMPLEMENTATION OF TEXTILE AGREEMENTS

Adjustment of Import Limits for Certain Cotton, Wool, Man-Made Fiber, Silk Blend and Other Vegetable Fiber Textiles and Textile Products Produced or Manufactured in the Republic of Korea

September 27, 2001.

AGENCY: Committee for the Implementation of Textile Agreements (CITA).

ACTION: Issuing a directive to the Commissioner of Customs adjusting limits.

EFFECTIVE DATE: October 3, 2001.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs Web site at http://www.customs.gov. For information on embargoes and quota re-openings, refer to the Office of Textiles and Apparel Web site at http://otexa.ita.doc.gov.

SUPPLEMENTARY INFORMATION:

Authority:

Section 204 of the Agricultural Act of 1956, as amended (7 U.S.C. 1854); Executive Order 11651 of March 3, 1972, as amended.

The current limits for certain categories are being adjusted for swing, carryover, carryforward and special shift.

A description of the textile and apparel categories in terms of HTS numbers is available in the CORRELATION: Textile and Apparel Categories with the Harmonized Tariff Schedule of the United States (see Federal Register notice 65 FR 82328, published on December 28, 2000). Also see 65 FR 69740, published on November 20, 2000.

D. Michael Hutchinson,
Acting Chairman, Committee for the Implementation of Textile Agreements.

Committee for the Implementation of Textile Agreements

September 27, 2001.

Commissioner of Customs,

Department of the Treasury, Washington, DC 20229

Dear Commissioner: This directive amends, but does not cancel, the directive issued to you on November 14, 2000, by the Chairman, Committee for the Implementation of Textile Agreements. That directive concerns imports of certain cotton, wool, man-made fiber, silk blend and other vegetable fiber textiles and textile products produced or manufactured in the Republic of Korea and exported during the twelve-month period which began on January 1, 2001 and extends through December 31, 2001.

Effective on October 3, 2001, you are directed to adjust the limits for the following categories, as provided for under the Uruguay Round Agreement on Textiles and Clothing:

Category | Adjusted twelve-month limit ¹
Group I |
200-223, 224-V ², 224-O ³, 225-227, 300-326, 360-363, 369pt. ⁴, 400-414, 464, 469pt. ⁵, 600-629, 666, 669-P ⁶, 669pt. ⁷ and 670-O ⁸, as a group | 435,123,587 square meters equivalent.
Sublevels within Group I |
200 | 584,932 kilograms.
201 | 2,777,763 kilograms.
611 | 4,659,498 square meters.
619/620 | 107,587,736 square meters.
624 | 10,022,181 square meters.
625/626/627/628/629 | 19,348,007square meters.
Group II |
237, 239pt. ⁹, 331-348, 350-352, 359-H ¹⁰, 359pt. ¹¹, 431, 433-438, 440-448, 459-W ¹², 459pt. ¹³, 631, 633-652, 659-H ¹⁴, 659-S ¹⁵ and 659pt. ¹⁶, as a group | 614,613,158 square meters equivalent.
Sublevels within Group II |
333/334/335 | 336,981 dozen of which not more than 172,237 dozen shall be in Category 335.
336 | 63,242 dozen.
338/339 | 1,497,695 dozen.
340 | 834,425 dozen of which not more than 425,444 dozen shall be in Category 340-D ¹⁷.
341 | 212,276 dozen.
342/642 | 273,359 dozen.
345 | 146,043 dozen.
347/348 | 656,766 dozen.
350 | 20,712 dozen.
351/651 | 287,170 dozen.
352 | 223,468 dozen.
433 | 15,238 dozen.
434 | 7,815 dozen.
435 | 40,096 dozen.
436 | 16,973 dozen.
438 | 66,802 dozen.
442 | 57,359 dozen.
443 | 344,600 numbers.
444 | 61,357 numbers.
445/446 | 57,162 dozen.
447 | 95,701 dozen.
448 | 40,352 dozen.
459-W | 109,155 kilograms.
631 | 377,324 dozen pairs.
633/634/635 | 1,431,487 dozen of which not more than 162,328 dozen shall be in Category 633 and not more than 604,945 dozen shall be in Category 635.
636 | 324,307 dozen.
638/639 | 5,573,277 dozen.
640-D ¹⁸ | 3,016,129 dozen.
640-O ¹⁹ | 2,858,064 dozen.
641 | 1,155,309 dozen of which not more than 43,705 dozen shall be in Category 641-Y ²⁰.
644 | 1,313,756 numbers.
645/646 | 4,093,880 dozen.
647/648 | 1,367,192 dozen.
650 | 30,309 dozen.
659-H | 1,529,884 kilograms.
659-S | 224,962 kilograms.
Sublevel within Group III |
835 | 31,783 dozen.
Group IV |
846 | 473,548 dozen.
Group VI |
369-L/670-L/870 ²¹, as a group. | 73,213,015 square meters equivalent.
¹ The limits have not been adjusted to account for any imports exported after December 31, 2000.
² Category 224-V: only HTS numbers 5801.21.0000, 5801.23.0000, 5801.24.0000, 5801.25.0010, 5801.25.0020, 5801.26.0010, 5801.26.0020, 5801.31.0000, 5801.33.0000, 5801.34.0000, 5801.35.0010, 5801.35.0020, 5801.36.0010 and 5801.36,0020.
³ Category 224-O: all remaining HTS numbers in Category 224.
⁴ Category 369pt.: all HTS numbers except 4202.12.4000, 4202.12.8020, 4202.12.8060, 4202.92.1500, 4202.92.3016, 4202.92.6091, 6307.90.9905, (Category 369-L); 5601.10.1000, 5601.21.0090, 5701.90.1020, 5701.90.2020, 5702.10.9020, 5702.39.2010, 5702.49.1020, 5702.49.1080, 5702.59.1000, 5702.99.1010, 5702.99.1090, 5705.00.2020 and 6406.10.7700.
⁵ Category 469pt.: all HTS numbers except 5601.29.0020, 5603.94.1010 and 6406.10.9020.
⁶ Category 669-P: only HTS numbers 6305.32.0010, 6305.32.0020, 6305.33.0010, 6305.33.0020 and 6305.39.0000.
⁷ Category 669pt.: all HTS numbers except 6305.32.0010, 6305.32.0020, 6305.33.0010, 6305.33.0020, 6305.39.0000 (Category 669-P); 5601.10.2000, 5601.22.0090, 5607.49.3000, 5607.50.4000 and 6406.10.9040.
⁸ Category 670-O: All HTS numbers except only HTS numbers 4202.12.8030, 4202.12.8070, 4202.92.3020, 4202.92.3031, 4202.92.9026 and 6307.90.9907 (Category 670-L).
⁹ Category 239pt.: only HTS number 6209.20.5040 (diapers).
¹⁰ Category 359-H: only HTS numbers 6505.90.1540 and 6505.90.2060.
¹¹ Category 359pt.: all HTS numbers except 6505.90.1540, 6505.20.2060 (Category 359-H); and 6406.99.1550.
¹² Category 459-W: only HTS number 6505.90.4090.
¹³ Category 459pt.: all HTS numbers except 6505.90.4090 (Category 459-W); 6405.20.6030, 6405.20.6060, 6405.20.6090, 6406.99.1505 and 6406.99.1560.
¹⁴ Category 659-H: only HTS numbers 6502.00.9030, 6504.00.9015, 6504.00.9060, 6505.90.5090, 6505.90.6090, 6505.90.7090 and 6505.90.8090.
¹⁵ Category 659-S: only HTS numbers 6112.31.0010, 6112.31.0020, 6112.41.0010, 6112.41.0020, 6112.41.0030, 6112.41.0040, 6211.11.1010, 6211.11.1020, 6211.12.1010 and 6211.12.1020.
¹⁶ Category 659pt.: all HTS numbers except 6502.00.9030, 6504.00.9015, 6504.00.9060, 6505.90.5090, 6505.90.6090, 6505.90.7090, 6505.90.8090 (Category 659-H); 6112.31.0010, 6112.31.0020, 6112.41.0010, 6112.41.0020, 6112.41.0030, 6112.41.0040, 6211.11.1010, 6211.11.1020, 6211.12.1010, 6211.12.1020 (Category 659-S); 6406.99.1510 and 6406.99.1540.
¹⁷ Category 340-D: only HTS numbers 6205.20.2015, 6205.20.2020, 6205.20.2025 and 6205.20.2030.
¹⁸ Category 640-D: only HTS numbers 6205.30.2010, 6205.30.2020, 6205.30.2030, 6205.30.2040, 6205.90.3030 and 6205.90.4030.
¹⁹ Category 640-O: only HTS numbers 6203.23.0080, 6203.29.2050, 6205.30.1000, 6205.30.2050, 6205.30.2060, 6205.30.2070, 6205.30.2080 and 6211.33.0040.
²⁰ Category 641-Y: only HTS numbers 6204.23.0050, 6204.29.2030, 6206.40.3010 and 6206.40.3025.
²¹ Category 870; Category 369-L: only HTS numbers 4202.12.4000, 4202.12.8020, 4202.12.8060, 4202.92.1500, 4202.92.3016, 4202.92.6091 and 6307.90.9905; Category 670-L: only HTS numbers 4202.12.8030, 4202.12.8070, 4202.92.3020, 4202.92.3031, 4202.92.9026 and 6307.90.9907.

The Committee for the Implementation of Textile Agreements has determined that these actions fall within the foreign affairs exception to the rulemaking provisions of 5 U.S.C. 553(a)(1).

Sincerely,

D. Michael Hutchinson,

Acting Chairman, Committee for the Implementation of Textile Agreements.

[FR Doc. 01-24675 Filed 10-2-01; 8:45 am]

BILLING CODE 3510-DR-S